LIBRARY OF CONGRESS

U.S. Copyright Office

37 CFR Part 201

[Docket No. 2014-08]

Fees for Submitting Corrected Electronic Title Appendices

AGENCY: U.S. Copyright Office, Library of Congress.

ACTION: Final rule.

SUMMARY: The U.S. Copyright Office recently adopted amended regulations to allow remitters to submit title lists in electronic format when recording documents that reference 100 or more titles. Those regulations also provide a process for correcting inaccuracies in the Office's online Public Catalog resulting from errors in electronic title lists. To avoid delay in implementing the electronic title list option, the Office decided to issue that final rule without imposition of a fee for corrections until such time as a fee could be set in accordance with this separate rulemaking. Today, the Office is amending its regulations to set that fee at a rate of seven dollars per corrected title.

DATES: Effective December 18, 2014.

FOR FURTHER INFORMATION CONTACT: Sarang V. Damle, Special Advisor to the General Counsel, by email at sdam@loc.gov or by telephone at 202-707-8350; or Abi Oyewole, Attorney-Advisor, by email at aoye@loc.gov or by telephone at 202-707-8350.

SUPPLEMENTARY INFORMATION: On September 17, 2014, under a rulemaking entitled “Changes to Recordation Practices,” the Copyright Office (“Office”) amended its regulations to, among other things, allow remitters to submit lists of titles in electronic format when recording documents that reference 100 or more titles of copyrighted works. See 79 FR 55633. Those electronic lists are used by the Office for the purposes of indexing the online Public Catalog of recorded documents. In response to a comment received from the Recording Industry Association of America, Inc. (“RIAA”),¹ the amended regulations also adopted a procedure for correcting errors in the online Public Catalog that have been caused by remitters' submission of inaccurate title lists. See 37 CFR 201.4(c)(4)(v). However, to avoid delay in implementing the electronic title list option, the Office decided to issue that final rule without imposition of a fee for corrections until a fee could be set in accordance with a separate Notice of Proposed Rulemaking (“NPRM”).

¹ Recording Industry Ass'n of Am., Inc., Comments Submitted in Response to U.S. Copyright Office's July 16, 2014 Notice of Proposed Rulemaking (Aug. 15, 2014), available at http://copyright.gov/rulemaking/recordation-practices/docket2014-4/comments/RIAA.pdf.

That separate NPRM was published on September 17, 2014 and proposed a fee of seven dollars per corrected title. 79 FR 55694. The Office received only one substantive submission containing comments from RIAA.² In its comments, RIAA expressed approval of the Office's decision to implement a correction process for electronic title lists. RIAA Comments at 1. It stated that it believed the number of errors found in an electronic title list would be small, and in such cases the $7 fee was “reasonable.” Id. But, it urged that in the “presumably rare situations where a major clerical error requires a remitter to correct a large number of titles, a fee of $7 per title could serve as a disincentive for correcting the Office's records or as a penalty for having made a mistake in the first instance.” Id. at 1-2. RIAA suggested that the Office “track instances of large-scale corrections to electronic lists” and consider a “fee structure” that would reduce the fee per corrected title once remitters exceed a set number of errors. Id. at 2.

² Recording Industry Ass'n of Am. Inc., Comments Submitted in Response to U.S. Copyright Office's September 17, 2014 Notice of Proposed Rulemaking (Oct. 17, 2014) (“RIAA Comments”), available at http://copyright.gov/rulemaking/etitle-fees/comments/docket_2014%E2%80%9308/RIAA.pdf.

As the NPRM explained, the fee of seven dollars per corrected title was determined after considering the various personnel and system costs associated with providing the new service. 79 FR at 55695. What RIAA proposes, in essence, is that remitters who submit lists with a large number of errors be given a “volume discount” that is below the Office's costs.

The Office declines to adopt this recommendation. To the extent the fee established here will have any effect on remitter behavior, the Office believes that it will principally serve as an incentive for submitting accurate electronic title lists in the first place, rather than as “a disincentive for correcting the Office's records.” RIAA Comments at 1-2. As the Office has stressed, remitters should “establish[ ] appropriate internal procedures to review and confirm electronic lists before they are submitted to the Office.” 79 FR at 55634. In any event, the statute itself provides an incentive for the submission of correct information as the benefits of recordation depend upon the accurate identification and indexing of titles affected. See 17 U.S.C. 205(c)-(d).

List of Subjects in 37 CFR Part 201

Copyright.

Final Regulations

For the reasons set forth in the preamble, the Copyright Office amends 37 CFR part 201 as follows:

PART 201—GENERAL PROVISIONS

1. The authority citation for part 201 continues to read as follows:

Authority: 17 U.S.C. 702.

2. Amend § 201.3 by revising paragraph (c)(16) to read as follows:

§ 201.3 Fees for registration, recordation, and related services, special services, and services performed by the Licensing Division.

* * * * *

(c) * * *

Registration, recordation and related services | Fees ($)
* * * * * * *
(16) Recordation of document, including a notice of intention to enforce
(single title) | 105
Additional titles (per group of 1 to 10 titles) | 35
Correction of online Public Catalog data due to erroneous electronic title submission (per title) | 7
* * * * * * *

* * * * *

3. Amend § 201.4 by revising the last sentence of paragraph (c)(4)(v) to read as follows:

§ 201.4 Recordation of transfers and certain other documents.

* * * * *

(c) * * *

(4) * * *

(v) * * * Upon receipt of a corrected electronic list in proper form and the appropriate fee, the Office will proceed to correct the data in the online Public Catalog, and will make a note in the record indicating that the corrections were made and the date they were made.

* * * * *

Dated: October 30, 2014.
Maria A. Pallante,
Register of Copyrights.
Approved by:
James H. Billington,
Librarian of Congress.

[FR Doc. 2014-27274 Filed 11-17-14; 8:45 am]

BILLING CODE 1410-30-P